DEPARTMENT OF COMMERCE

National Oceanic and Atmospheric Administration

[RTID 0648-XD845]

Caribbean Fishery Management Council; Public Meeting

AGENCY: National Marine Fisheries Service (NMFS), National Oceanic and Atmospheric Administration (NOAA), Commerce.

ACTION: Notice of public hybrid meeting (in-person/virtual).

SUMMARY: The Caribbean Fishery Management Council (CFMC) will hold the 184th public hybrid meeting to address the items contained in the tentative agenda included in the SUPPLEMENTARY INFORMATION.

DATES: The 184th CFMC public hybrid meeting will be held on April 23, 2024, from 9 a.m. to 4:30 p.m. A closed session will be held from 4:45 p.m. to 5:30 p.m., to discuss personnel matters, and on April 24, 2024, from 9 a.m. to 4:30 p.m. AST.

ADDRESSES:

Meeting address: The meeting will be held at the Courtyard by Marriott Isla Verde Beach Resort, 7012 Boca de Cangrejos Avenue, Carolina, Puerto Rico 00979.

You may join the 184th CFMC public hybrid meeting via Zoom, from a computer, tablet or smartphone by entering the following address:

Join Zoom Meeting

https://us02web.zoom.us/j/83060685915?pwd=VmVsc1orSUtKck8xYk1XOXNDY1ErZz09

Meeting ID: 830 6068 5915

Passcode: 995658

One tap mobile

+17879451488,,83060685915#,,,,,,0#,,995658# Puerto Rico

+17879667727,,83060685915#,,,,,,0#,,995658# Puerto Rico

Dial by your location

+1 787 945 1488 Puerto Rico

+1 787 966 7727 Puerto Rico

+1 939 945 0244 Puerto Rico

Meeting ID: 830 6068 5915

Passcode: 995658

In case there are problems, and we cannot reconnect via Zoom, the meeting will continue using GoToMeeting.

You can join the meeting from your computer, tablet, or smartphone. https://global.gotomeeting.com/join/971749317. You can also dial in using your phone. United States: +1 (408) 650-3123 Access Code: 971-749-317.

FOR FURTHER INFORMATION CONTACT: Miguel A. Rolón, Executive Director, Caribbean Fishery Management Council, 270 Muñoz Rivera Avenue, Suite 401, San Juan, Puerto Rico 00918-1903; telephone: (787) 398-3717.

SUPPLEMENTARY INFORMATION: The following items included in the tentative agenda will be discussed:

April 23, 2024

9 a.m.-9:30 p.m.

—Call to Order

—Roll Call

—Adoption of Agenda

—Consideration of 183rd Council Meeting Verbatim Transcription

—Executive Director's Report

9:30 a.m.-10:10 a.m.

—Scientific and Statistical Committee Report—Vance Vicente, Chair

—Ecosystem-Based Fisheries Management Technical Advisory Panel Report—Sennai Habtes, Chair

10:10 a.m.-10:50 a.m.

—Southeast Fishery Science Center Updates—Kevin McCarthy, Caribbean Fisheries Branch, NOAA Fisheries

—Harvest Control Rules in a Changing Environment: Lessons for Confronting Non-Stationarity in the U.S. Caribbean—Matt Damiano, Caribbean Fisheries Branch, SEFSC, NOAA Fisheries

10:50 a.m.-11 a.m.

—Coffee Break

11 a.m.-11:30 a.m.

—NMFS Southeast Equity and Environmental Justice (EEJ) Implementation Plan—NMFS SERO/SEFSC

11:30 a.m.-12:15 p.m.

—Fishery Management Plans (FMPs) Amendments and Actions Update—María López-Mercer, NOAA Fisheries

12:15 p.m.-1:15 p.m.

—Lunch Break

1:15 p.m.-2 p.m.

—Framework Action 3 under the Puerto Rico Fishery Management Plan: Modification of Status Determination Criteria and Management Reference Points for the Triggerfish Stock Complex based on the SEDAR 80 Queen Triggerfish Stock Assessment—Final Action, NMFS SERO Sustainable Fisheries

2 p.m.-3 p.m.

—Amendment 3 to the Puerto Rico, St. Croix, and St. Thomas and St. John Fishery Management Plans: Management Measures for Dolphin and Wahoo—Final Action, NMFS SERO Sustainable Fisheries

3 p.m.-3:15 p.m.

—Coffee Break

3:15 p.m.-4:15 p.m.

—Queen Conch Endangered Species Act Final Listing—NMFS SERO Protected Resources

4:15 p.m.-4:30 p.m.

—Public Comment Period (5-minute presentations)

4:30 p.m.

—Adjourn for the day

4:45 p.m.-5:30 p.m.

—Closed Session

April 24, 2024

9 a.m.-9:30 a.m.

—Building Successful Linkages in Support of the Queen Conch and Fish Spawning Aggregation Regional Fisheries Management Sustainability—Martha Prada

9:30 a.m.-10 a.m.

—Big Fish Campaign—Ana Salceda

10 a.m.-10:45 a.m.

—Outreach and Education Advisory Panel Report—Alida Ortíz

—CFMC Social Networks—Cristina Olan

10:45 a.m.-11 a.m.

—Coffee Break

11 a.m.-11:30 p.m.

—CFMC Liaison Officers Reports (10 minutes each)

—St. Croix, U.S.V.I.—Liandry De La Cruz

—St. Thomas/St. John, U.S.V.I.—Nicole Greaux

—Puerto Rico—Wilson Santiago

11:30 a.m.-11:45 p.m.

—Deed Water Snappers: Puerto Rico Regulations Update—Ricardo López, FRL, PR DNER

11:45 a.m.-12 p.m.

—Microplastics and Fisheries in Puerto Rico—Yesenia Marín/Ricardo López

12 p.m.-12:15 p.m.

—Shark Management Needs in Puerto Rico—Wanda Ortíz

12:15 p.m.-1:30 p.m.

—Lunch Break

1:30 p.m.-2:15 p.m.

—District Advisory Panel Reports (15 mins each)

—St. Thomas, U.S.V.I.—Julian Magras, Chair

—St. Croix, U.S.V.I.—Gerson Martinez, Chair

—Puerto Rico—Nelson Crespo, Chair

2:15 p.m.-2:30 p.m.

—Shipping Lanes in St. Croix, USVI—Carlos Farchette

2:30 p.m.-3:10 p.m.

—Enforcement Reports (10 minutes each)

—Puerto Rico DNER

—U.S.V.I. DPNR

—U.S. Coast Guard

—NOAA Fisheries Office of Law Enforcement

3:10 p.m.-3:30 p.m.

—Advisory Bodies Membership

3:30 p.m.-3:45 p.m.

—Other Business

3:45 p.m.-4:30 p.m.

—Public Comment Period (5-minute presentations)

—Next Meetings

4:30 p.m.

—Adjourn

Note (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on April 23, 2024, at 9 a.m. AST, and will end on April 24, 2024, at 4:30 p.m. AST. Other than the start time on the first day of the meeting, interested parties should be aware that discussions may start earlier or later than indicated in the agenda, at the discretion of the Chair.

Special Accommodations

For any additional information on this public virtual meeting, please contact Diana Martino, Caribbean Fishery Management Council, 270 Muñoz Rivera Avenue, Suite 401, San Juan, Puerto Rico 00918-1903; telephone: (787) 226-8849.

Authority: 16 U.S.C. 1801 et seq.

Dated: April 1, 2024.
Rey Israel Marquez,
Acting Deputy Director, Office of Sustainable Fisheries, National Marine Fisheries Service.

[FR Doc. 2024-07186 Filed 4-3-24; 8:45 am]

BILLING CODE 3510-22-P